ENVIRONMENTAL PROTECTION AGENCY

[EPA-HQ-OECA-2011-0272; FRL-9522-7]

Agency Information Collection Activities; Submission to OMB for Review and Approval; Comment Request; State and Federal Emission Guidelines for Hospital/Medical/Infectious Waste Incinerators (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before October 22, 2012.

ADDRESSES: Submit your comments, referencing docket ID number EPA-HQ-OECA-2011-0272, to: (1) EPA online using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On May 9, 2011 (76 FR 26900) EPA sought comments on this ICR pursuant to 5 CFR 1320.8(d). EPA received no comments. Any additional comments on this ICR should be submitted to both EPA and OMB within 30 days of this notice.

EPA has established a public docket for this ICR under docket ID number EPA-HQ-OECA-2011-0272, which is available for either public viewing online at http://www.regulations.gov, or in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to www.regulations.gov.

Title: State and Federal Emission Guidelines for Hospital/Medical/Infectious Waste Incinerators (Renewal).

ICR Numbers: EPA ICR Number 1899.07, OMB Control Number 2060-0422.

ICR Status: This ICR is scheduled to expire on September 30, 2012. Under OMB regulations, the Agency may continue to either conduct or sponsor the collection of information while this submission is pending at OMB.

Abstract: The State and Federal Emissions Guidelines for Hospital Medical/Infectious Waste Incinerators, (40 CFR part 60, subpart Ce, and 40 CFR part 62, subpart HHH).

Owners or operators of the affected facilities must submit initial notification, performance tests, and periodic reports and results. Owners or operators are also required to maintain records of the occurrence and duration of any startup, shutdown, or malfunction in the operation of an affected facility, or any period during which the monitoring system is inoperative. Reports are required semiannually at a minimum.

Burden Statement: The annual public reporting and recordkeeping burden for this collection of information is estimated to average 292 hours per response. “Burden” means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of hospital/medical/or infectious waste incinerators.

Estimated Number of Respondents: 79.

Frequency of Response: Initially, occasionally, annually, and semiannually.

Estimated Total Annual Hour Burden: 60,080.

Estimated Total Annual Cost: $6,489,166, which includes $5,746,349 in labor costs, no capital/startup costs, and $742,817 in operation and maintenance (O&M) costs.

There is a decrease in the total estimated burden as currently identified in the OMB Inventory of Approved Burdens. The decrease is not due to any program changes. The most recently approved ICR (ICR 1899.06) estimated the total burden associated with the regulation by adding together the burdens and costs from the ICR for the existing standard (ICR 1899.05) and the revised standard (ICR 2335.02); portions of the rule requirements and burden activities in ICRs 1899.06 and 2335.02 overlap. This ICR updates all estimates and removes any duplicate burdens.

There is no capital/startup cost associated with this ICR, which is a decrease from the most recently approved ICR. There are also changes in the O&M costs in this ICR compared to the previous ICR. These changes occurred because the most recently-revised standard has been in effect for more than three years and the requirements are different during initial compliance as compared to on-going compliance. This ICR does not include the costs and burden for conducting initial compliance tests and notifications. Additionally, this ICR assumes that all sources have already purchased monitoring and testing equipment to comply with the standard.

John Moses,
Director, Collection Strategies Division.

[FR Doc. 2012-23282 Filed 9-20-12; 8:45 am]

BILLING CODE 6560-50-P